DEPARTMENT OF ENERGY

Federal Energy Regulatory Commission

[Project No. 13868-000]

Qualified Hydro 33, LLC; Notice of Preliminary Permit Application Accepted for Filing and Soliciting Comments, Motions To Intervene, and Competing Applications

November 16, 2010.

On October 15, 2010, Qualified Hydro 33, LLC filed an application for a preliminary permit, pursuant to section 4(f) of the Federal Power Act (FPA), proposing to study the feasibility of the Crooked Creek Dam Hydroelectric Project to be located on Crooked Creek near Ford City, in Armstrong County, Pennsylvania. The sole purpose of a preliminary permit, if issued, is to grant the permit holder priority to file a license application during the permit term. A preliminary permit does not authorize the permit holder to perform any land-disturbing activities or otherwise enter upon lands or waters owned by others without the owners' express permission.

The proposed project will consist of the following: (1) One vertical Kaplan turbine-generator with a capacity of 2 megawatts; (2) a 100-foot-long steel liner and a bifurcated penstock leading to the powerhouse; (3) a 40-foot by 50-foot concrete powerhouse; (4) a new 2 MVA substation adjacent to the powerhouse; (5) a 2,750-foot-long transmission line; and (6) appurtenant facilities. The estimated annual generation of the Crooked Creek Dam Hydroelectric Project would be 10,000 megawatt-hours.

Applicant Contact: Ramya Swaminathan, Qualified Hydro 33, LLC, 33 Commercial Street, Gloucester, MA 01930; phone: (978) 283-2822.

FERC Contact: Allyson Conner, (202) 502-6082.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov; call toll-free at (866) 208-3676; or for TTY, contact (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13868-000) in the docket number field to access the document. For assistance, contact FERC Online Support.

Kimberly D. Bose,
Secretary.

[FR Doc. 2010-29444 Filed 11-22-10; 8:45 am]

BILLING CODE 6717-01-P